DEPARTMENT OF ENERGY

Federal Energy Regulatory Commission

[Project No. 13243-000]

Rockhouse Mountain Energy, LLC; Notice of Preliminary Permit Application Accepted for Filing and Soliciting Comments, Motions To Intervene, and Competing Applications

November 13, 2008.

On June 13, 2008, Rockhouse Mountain Energy, LLC filed an application, pursuant to section 4(f) of the Federal Power Act, proposing to study the feasibility of the Murphy Dam Hydroelectric Project. The project would be located at the existing Murphy Dam owned by the State of New Hampshire on Lake Francis, in Coos County, New Hampshire.

The proposed Murphy Dam Project would use the State of New Hampshire's Murphy Dam and would consist of: (1) A proposed 540-foot-long, 8-foot-diameter steel penstock; (2) a proposed powerhouse containing one generating unit having a total installed capacity of 2.25 MW; (3) a proposed 1.1-mile-long, 19.9/34.5-kV transmission line; (4) a tailrace; and (5) appurtenant facilities. The proposed project would have an average annual generation of 11.6 gigawatt-hours, which would be sold to a local utility.

Applicant Contact: Mr. Robert Jawitz, Rockhouse Mountain Energy, LLC, PO Box 197, Conway, NH 03818; phone (603) 387-9998.

FERC Contact: Kelly T. Houff, (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13243) in the docket number field to access the document. For assistance, call toll-free 1-866-208-3372.

Kimberly D. Bose,
Secretary.

[FR Doc. E8-27413 Filed 11-18-08; 8:45 am]

BILLING CODE 6717-01-P